DEPARTMENT OF ENERGY

Federal Energy Regulatory Commission

Notice of Meeting, Notice of Vote, Explanation of Action Closing Meeting and List of Persons To Attend

September 11, 2002.

The following notice of meeting is published pursuant to Section 3(a) of the Government in the Sunshine Act (Pub. L. No. 94-409), 5 U.S.C. 552b:

Agency Holding Meeting: Federal Energy Regulatory Commission.

Date and Time: September 18, 2002, (30 Minutes Following Regular Commission Meeting).

Place: Hearing Room 5, 888 First Street, NE., Washington, DC 20426.

Status: Closed.

Matters To Be Considered: Non-Public Investigations and Inquiries and Enforcement Related Matters.

Contact Person for More Information: Magalie R. Salas, Secretary, Telephone (202) 502-8400.

Chairman Wood and Commissioners Massey, Breathitt and Brownell voted to hold a closed meeting on September 18, 2002. The certification of the General Counsel explaining the action closing the meeting is available for public inspection in the Commission's Public Reference Room at 888 First Street, NE., Washington, DC 20426.

The Chairman and the Commissioners, their assistants, the Commission's Secretary and her assistant, the General Counsel and members of her staff, and a stenographer are expected to attend the meeting. Other staff members from the Commission's program offices who will advise the Commissioners in the matters discussed will also be present.

Magalie R. Salas,
Secretary.

[FR Doc. 02-23565 Filed 9-12-02; 12:00 pm]

BILLING CODE 6717-01-P